DEPARTMENT OF TRANSPORTATION

Federal Transit Administration

[FTA Docket No. FTA-2014-0015]

Agency Information Collection Activity Under OMB Review

AGENCY: Federal Transit Administration, DOT.

ACTION: Notice of request for comments.

SUMMARY: As part of a Federal Government-wide effort to streamline the process to seek feedback from the public on service delivery, the Federal Transit Administration invites public comment about our intention to request the Office of Management and Budget's (OMB) approval to renew the following information collection under the Paperwork Reduction Act (PRA) (44 U.S.C. 3501 et. seq.):

Survey of FTA Stakeholders

The Federal Register Notice with a 60-day comment period soliciting comments was published on April 8, 2014 (79 FR 19414). No comments were received.

DATES: Comments must be submitted before July 10, 2014. A comment to OMB is most effective if OMB receives it within 30 days of publication.

FOR FURTHER INFORMATION CONTACT: Tia Swain, Office of Administration, Office of Management Planning, (202) 366-0354.

SUPPLEMENTARY INFORMATION:

Title: Survey of FTA Stakeholders (OMB Number: 2132-0564).

Abstract: Executive Order 12862, “Streamlining Service Delivery and Improving Customer Service,” requires FTA to identify its stakeholders and address how the agency will provide services in a manner that seeks to streamline service delivery and improve the experience of its customers. The survey covered in this request will provide FTA with a means to gather data directly from its stakeholders. The information obtained from the survey will be used to assess how FTA's services are perceived by stakeholders, determine opportunities for improvement and establish goals to measure results. The survey will be limited to data collections that solicit voluntary opinions and will not involve information that is required by regulations.

Estimated Total Annual Burden: 1,200 hours.

ADDRESSES: All written comments must refer to the docket number that appears at the top of this document and be submitted to the Office of Information and Regulatory Affairs, Office of Management and Budget, 725-17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

Dated: June 3, 2014.
Matthew M. Crouch,
Associate Administrator for Administration.

[FR Doc. 2014-13447 Filed 6-9-14; 8:45 am]

BILLING CODE